SECURITIES AND EXCHANGE COMMISSION

Sunshine Act Meetings

TIME AND DATE: Notice is hereby given, pursuant to the provisions of the Government in the Sunshine Act, Public Law 94-409, that the Securities and Exchange Commission Fixed Income Market Structure Advisory Committee will hold a public meeting on June 1, 2020, at 9:30 a.m. (ET).

PLACE: The meeting will be conducted by remote means. Members of the public may watch the webcast of the meeting on the Commission's website at www.sec.gov.

STATUS: The meeting will begin at 9:30 a.m. and will be open to the public via webcast. The Sunshine Act notice is being issued because a majority of the Commission may attend the meeting.

MATTERS TO BE CONSIDERED: On May 8, 2020, the Commission issued notice of the Committee meeting (Release No. 34-88842), indicating that the meeting is open to the public and inviting the public to submit written comments to the Committee.

The agenda for the meeting will include panel discussions and potential recommendations from the subcommittees, including potential recommendations concerning internal fund crosses and credit ratings, as well as a panel discussing the role of bond pricing services.

CONTACT PERSON FOR MORE INFORMATION: For further information, please contact Vanessa A. Countryman from the Office of the Secretary at (202) 551-5400.

Dated: May 21, 2020.
Vanessa A. Countryman,
Secretary.

[FR Doc. 2020-11411 Filed 5-22-20; 11:15 am]

BILLING CODE 8011-01-P